DEPARTMENT OF THE INTERIOR

Fish and Wildlife Service

[DOI-2023-0001; FF10T03000 190 FXGO16601025020]

Privacy Act of 1974; System of Records

AGENCY: U.S. Fish and Wildlife Service, Interior.

ACTION: Notice of modified systems of records.

SUMMARY: Pursuant to the provisions of the Privacy Act of 1974, as amended, the Department of the Interior (DOI) is issuing a public notice of its intent to modify all U.S. Fish and Wildlife Service (FWS) system of records notices (SORNs). FWS is modifying its 11 system of records to add 2 breach routine uses to authorize the limited disclosure of records related to a suspected or confirmed breach of personally identifiable information (PII) within the DOI or assist another agency respond to their breach in accordance with Office of Management and Budget (OMB) Memorandum M-17-12, Preparing for and Responding to a Breach of Personally Identifiable Information.

DATES: This notice will be effective upon publication. New or modified routine uses will be effective April 17, 2023. Submit comments on or before April 17, 2023.

ADDRESSES: You may send comments identified by docket number [DOI-2023-0001] by any of the following methods:

• Federal eRulemaking Portal: https://www.regulations.gov. Follow the instructions for sending comments.

• Email: DOI_Privacy@ios.doi.gov. Include docket number [DOI-2023-0001] in the subject line of the message.

• U.S. Mail or Hand Delivery: Teri Barnett, Departmental Privacy Officer, U.S. Department of the Interior, 1849 C Street NW, Room 7112, Washington, DC 20240.

Instructions: All submissions received must include the agency name and docket number [DOI-2023-0001]. All comments received will be posted without change to https://www.regulations.gov, including any personal information provided.

Docket: For access to the docket to read background documents or comments received, go to https://www.regulations.gov.

FOR FURTHER INFORMATION CONTACT: Jennifer Schmidt, Associate Privacy Officer, U.S. Fish and Wildlife Service, 5725 Leesburg Pike MS-IRTM, Falls Church, VA 22041, FWS_Privacy@fws.gov or (703) 358-2291.

SUPPLEMENTARY INFORMATION:

I. Background

On May 22, 2007, OMB issued Memorandum M-07-16, Safeguarding Against and Responding to the Breach of Personally Identifiable Information, which required Federal agencies to publish a routine use for their systems of records specifically applying to the disclosure of information in connection with response and remedial efforts in the event of a breach of personally identifiable information. FWS published a notice in the Federal Register in 2008 to modify all FWS system of records by adding a routine use in their “ROUTINE USES” section to address the limited disclosure of records related to a suspected or confirmed breach within DOI consistent with OMB M-07-16. In 2015, FWS published a modified system of records notice for the INTERIOR/FWS-26, Migratory Bird and Harvest Survey, system of records, which erroneously omitted the breach routine use required by OMB M-07-16.

On January 3, 2017, OMB issued Memorandum M-17-12, Preparing for and Responding to a Breach of Personally Identifiable Information, which rescinded and replaced OMB M-07-16. This memorandum requires agencies to publish two routine uses for their systems of records specifically applying to the disclosure of information in connection with response and remedial efforts in the event of a breach of PII. Specifically, OMB M-17-12 requires that agency Senior Agency Officials for Privacy ensure that their agency SORNs include routine uses for the disclosure of information necessary to respond to that agency's breach of PII. Additionally, OMB M-17-12 requires that a breach routine use be added to all agency SORNs to ensure that agencies are able to disclose records in their systems of records to another Federal agency that may reasonably be needed by that agency to respond to a breach of PII.

FWS is publishing this notice to modify the SORNs identified below to revise the existing breach routine use to address the limited disclosure of records related to a suspected or confirmed breach within DOI and to correct the omission of the original breach routine use in the INTERIOR/FWS-26, Migratory Birds and Harvesting Survey, SORN published in 2015. This notice also adds a new breach routine use for the limited disclosure of records that may reasonably be needed by another agency to respond to a breach in accordance with OMB M-17-12. These modifications will ensure FWS can respond to a suspected or confirmed breach within DOI and assist other agencies in responding to a confirmed or suspected breach, as appropriate, pursuant to OMB M-17-12. Moving forward all new and significantly modified SORNs published by FWS will include the breach response routine uses consistent with the requirements outlined in OMB M-17-12. This notice hereby adds the two routine uses required by OMB M-17-12 to the system notices listed below.

1 | INTERIOR/FWS-4, Tort Claims Records | 64 FR 29055 (May 28, 1999); modification published 73 FR 31877 (June 4, 2008).
2 | INTERIOR/FWS-5, National Wildlife Refuge Special Use Permits | 64 FR 29055 (May 28, 1999); modification published 73 FR 31877 (June 4, 2008).
3 | INTERIOR/FWS-7, Water Development Project and/or Effluent Discharge Permit Application Review | 46 FR 18367 (March 24, 1981); modification published 73 FR 31877 (June 4, 2008).
4 | INTERIOR/FWS-10, National Fish Hatchery Special Use Permits | 64 FR 29055 (May 28, 1999); modification published 73 FR 31877 (June 4, 2008).
5 | INTERIOR/FWS-11, Real Property Records | 71 FR 68635 (November 27, 2006); modification published 73 FR 31877 (June 4, 2008).
6 | INTERIOR/FWS-20, Investigative Case File System | 64 FR 29055 (May 28, 1999); modification published 73 FR 31877 (June 4, 2008).
7 | INTERIOR/FWS-21, Permits System | 68 FR 52610 (September 4, 2003); modification published 73 FR 31877 (June 4, 2008).
8 | INTERIOR/FWS-22, U.S. Deputy Game Warden | 64 FR 29055 (May 28, 1999); modification published 73 FR 31877 (June 4, 2008).
9 | INTERIOR/FWS-26, Migratory Bird Population and Harvest Surveys | 80 FR 27183 (May 12, 2015).
10 | INTERIOR/FWS-27, Correspondence Control System | 64 FR 29055 (May 28, 1999); modification published 73 FR 31877 (June 4, 2008).
11 | INTERIOR/FWS-30, Marine Mammals Management, Marking, Tagging and Reporting Program | 58 FR 41803 (August 5, 1993); modification published 73 FR 31877 (June 4, 2008).

ROUTINE USES OF RECORDS MAINTAINED IN THE SYSTEM, INCLUDING CATEGORIES OF USERS AND THE PURPOSES OF SUCH USES:

To appropriate agencies, entities, and persons when: (1) DOI suspects or has confirmed that there has been a breach of the system of records; (2) DOI has determined that as a result of the suspected or confirmed breach there is a risk of harm to individuals, DOI (including its information systems, programs, and operations), the Federal Government, or national security; and (3) the disclosure made to such agencies, entities, and persons is reasonably necessary to assist in connection with DOI's efforts to respond to the suspected or confirmed breach or to prevent, minimize, or remedy such harm.

To another Federal agency or Federal entity, when DOI determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Teri Barnett,
Departmental Privacy Officer, Department of the Interior.

[FR Doc. 2023-05376 Filed 3-15-23; 8:45 am]

BILLING CODE 4333-15-P